DEPARTMENT OF THE INTERIOR

National Park Service

Final Environmental Impact Statement for the General Management Plan; Monocacy National Battlefield

AGENCY: National Park Service, Department of the Interior.

ACTION: Notice of Availability of the Final Environmental Impact Statement for the General Management Plan for Monocacy National Battlefield.

SUMMARY: Pursuant to the National Environmental Policy Act of 1969, 42 U.S.C. 4332(2)(C), the National Park Service (NPS) announces the availability of a Final Environmental Impact Statement for the General Management Plan for Monocacy National Battlefield. The plan will provide guidance to park management for administration, development, and interpretation of park resources over the next 20 years. Impact topics addressed were cultural resources (cultural landscapes and historic structures); visitor use and interpretation, socioeconomic environment; transportation, access and circulation; and national battlefield operations.

The document describes a No Action Alternative (continuation of existing management) and three Action Alternatives, one of which was identified as the selected alternative.

Alternative 2 would move the administrative and maintenance staff into local leased space. An alternative transportation system would be implemented. New trails would be constructed to outlying features of the battlefield. Safety improvements would be implemented at the New Jersey Monument and a commemorative area developed at the Pennsylvania and Vermont Memorials. A deck crossing Interstate 270 (I-270) would be constructed.

Alternative 3 would move NPS administration facilities into the Thomas House and expand the existing maintenance facility. There would be no alternative transportation system for visitors. New trails would be constructed to outlying features of the battlefield and safety improvements would be implemented at the New Jersey Monument. A commemorative area would be developed at the Pennsylvania and Vermont Memorials but no new monuments would be allowed.

Alternative 4, the selected preferred alternative, would move NPS administrative facilities into the Thomas House and an expanded maintenance facility would be developed at the existing site. Visitors would transit the battlefield in their automobiles. All historic structures would be preserved with exhibits in the Worthington House and Thomas outbuilding. New trails would be constructed to outlying features of the battlefield and commemorative memorial locations would be upgraded. A pedestrian-only deck would be constructed over I-270 between the Worthington Farm and Thomas Farm.

The Draft Environmental Impact Statement for the General Management Plan was made available for public review from September 2008 to July 1, 2009. The official review period following the Federal Register Notice of Availability was from May 2 to July 1, 2009. Approximately 350 copies of the plan were mailed to agencies, organizations, and the national battlefield mailing list. In addition, the availability of the document and information about public meetings were announced in the local newspaper. Following initial distribution of the draft plan, three public meetings were held in 2009—June 9 during the review period, and two on September 24. The NPS received 34 comments during the review period. Because comments received did not meet the criteria for “substantive comment,” a request was granted by the Department of the Interior Office of Environmental Policy and Compliance to undertake this abbreviated format Final Environmental Impact Statement for the General Management Plan.

DATES: The NPS will execute a Record of Decision (ROD) no sooner than 30 days following publication by the Environmental Protection Agency of the Notice of Availability of the Final Environmental Impact Statement for the General Management Plan.

ADDRESSES: Information will be available for public review online at http://parkplanning.nps.gov, or available on C-D. Hard copies may be obtained by contacting Superintendent Susan Trail, Monocacy National Battlefield, 4801 Urbana Pike, Frederick, Maryland, or by telephone at (301) 694-3147.

FOR FURTHER INFORMATION CONTACT: David Hayes, Regional Planner and Transportation Liaison, National Capital Region, National Park Service, 1100 Ohio Drive, SW., Washington, DC 20242, by telephone at (202) 619-7277, or by e-mail at David_Hayes@nps.gov.

SUPPLEMENTARY INFORMATION: The NPS evaluated a No Action Alternative and three Action Alternatives for management, development, and interpretation in the Final Environmental Impact Statement for the General Management Plan. All Action Alternatives provide for the preservation of all park cultural and natural resources. However, the selected preferred alternative (Alternative 4) provides the best variety of visitor experiences, the widest access to all areas of Monocacy National Battlefield, and the most appropriate use of historic resources for interpretive and other park operational purposes. Overall, it best meets NPS purposes and goals for Monocacy National Battlefield while meeting National Environmental Policy Act goals. The selected preferred alternative will not result in the impairment of park resources and will allow the NPS to conserve park resources while providing for their enjoyment by visitors.

Dated: April 28, 2010.
Margaret O'Dell,
Regional Director, National Capital Region.

[FR Doc. 2010-11819 Filed 5-17-10; 8:45 am]

BILLING CODE 4312-57-P